DEPARTMENT OF TRANSPORTATION

Surface Transportation Board

[Docket No. FD 35849]

CSX Transportation, Inc.—Corporate Family Merger Exemption—Lakefront Dock and Railroad Terminal Company

CSX Transportation, Inc. (CSXT) and Lakefront Dock and Railroad Terminal Company (LDRT) (collectively, Applicants) have jointly filed a verified notice of exemption under 49 CFR 1180.2(d)(3) for a corporate family transaction. CSXT is a Class I rail carrier that directly controls and operates LDRT.¹ LDRT is a wholly owned subsidiary of CSXT. The transaction involves the merger of LDRT with and into CSXT with CSXT being the surviving corporation.

¹ See CSX Corp.—Control—Conrail Inc., 3 S.T.B. 196 (1998).

Applicants state the purpose of the transaction is to simplify the corporate structure, and reduce overhead costs and duplication, by eliminating one corporation while retaining the same assets to serve customers. CSXT will obtain certain other savings as a result of this transaction.

Unless stayed, the exemption will be effective on September 4, 2014 (30 days after the verified notice was filed). Applicants state that CSXT intends to merge LDRT into CSXT on or after September 5, 2014.

This is a transaction within a corporate family of the type specifically exempted from prior review and approval under 49 CFR 1180.2(d)(3). Applicants state that the transaction will not result in adverse changes in service levels, significant operational changes, or any change in the competitive balance with carriers outside the corporate family.

Under 49 U.S.C. 10502(g), the Board may not use its exemption authority to relieve a rail carrier of its statutory obligation to protect the interests of its employees. As a condition to the use of this exemption, any employees adversely affected by this transaction will be protected by the conditions set forth in New York Dock Railway—Control—Brooklyn Eastern District Terminal, 360 I.C.C. 60 (1979).

If the notice contains false or misleading information, the exemption is void ab initio. Petitions to revoke the exemption under 49 U.S.C. 10502(d) may be filed at any time. The filing of a petition to revoke will not automatically stay the exemption. Petitions for stay must be filed no later than August 28, 2014 (at least seven days before the exemption becomes effective).

An original and 10 copies of all pleadings, referring to Docket No. FD 35849, must be filed with the Surface Transportation Board, 395 E Street SW., Washington, DC 20423-0001. In addition, one copy of each pleading must be served on Louis E. Gitomer, Law Offices of Louis E. Gitomer, 600 Baltimore Avenue, Suite 301, Towson, MD 21204.

Board decisions and notices are available on our Web site at “WWW.STB.DOT.GOV.”

Decided: August 18, 2014.
By the Board, Rachel D. Campbell, Director, Office of Proceedings.
Raina S. White,
Clearance Clerk.

[FR Doc. 2014-19870 Filed 8-20-14; 8:45 am]

BILLING CODE 4915-01-P